DEPARTMENT OF THE INTERIOR

Fish and Wildlife Service

[FWS-R4-ES-2019-N097; FXES11140400000-190-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by September 16, 2019.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFOMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit Application No. | Applicant | Species/numbers | Location | Activity | Type of take | Permit action
TE 011542-1 | Conservation Fisheries, Inc., Knoxville, TN | Diamond darter (Crystallaria cincotta), blue shiner (Cyprinella caerulea), spring pygmy sunfish (Elassoma alabamae), bluemask darter (Etheostoma akatulo), vermilion darter (Etheostoma chermocki), relict darter (Etheostoma chienense), Etowah darter (Etheostoma etowahae), yellowcheek darter (Etheostoma moorei), Okaloosa darter (Etheostoma okaloosae), duskytail darter (Etheostoma percnurum), rush darter (Etheostoma phytophilum), Cumberland darter (Etheostoma susanae), boulder darter (Etheostoma wapiti), Waccamaw silverside (Menidia extensa), palezone shiner (Notropis albizonatus), Cahaba shiner (Notropis cahabae), Cape Fear shiner (Notropis mekistocholas), smoky madtom (Noturus baileyi), chucky madtom (Noturus crypticus), pygmy madtom (Noturus stanauli), amber darter (Percina antesella), goldline darter (Percina aurolineata), pearl darter (Percina aurora), Conasauga logperch (Percina jenkinsi), snail darter (Percina tanasi), blackside dace (Phoxinus cumberlandensis), and laurel dace (Phoxinus saylori) | Alabama, Florida, Georgia, Kentucky, Mississippi, North Carolina, South Carolina, Tennessee, and Virginia | Presence/absence surveys, population monitoring, research, and captive propagation | Capture, handle, identify, collect, tag, and release | Renewal and Amendment.
TE 42291D-0 | Rebecca Johansen, Austin Peay State University, Clarksville, TN | Duskytail darter (Etheostoma percnurum) | Kentucky, Tennessee, and Virginia | Genetic diversity research | Capture, fin-clip, and release | New.
TE 32394A-1 | Florida Department of Environmental Protection, Apopka, FL | Anastasia Island beach mouse (Peromyscus polionotus phasma) and southeastern beach mouse (Peromyscus polionotus niveiventris) | Florida | Presence/absence surveys | Live-trap, mark, and release | Renewal.
TE 46522D-0 | John Enz, Jacksonville University, Ponte Vedra, FL | Rusty patched bumble bee (Bombus affinis) | Connecticut, Delaware, District of Columbia, Georgia, Illinois, Indiana, Iowa, Kentucky, Maine, Maryland, Massachusetts, Michigan, Minnesota, Missouri, New Hampshire, New Jersey, New York, North Carolina, North Dakota, Ohio, Pennsylvania, Rhode Island, South Carolina, South Dakota, Tennessee, Vermont, Virginia, West Virginia, and Wisconsin | Presence/absence surveys and population monitoring | Capture with aerial hand nets, handle, and photograph | New.
TE 171516-7 | Copperhead Environmental Consulting, Inc., Paint Lick, KY | Sheepnose mussel (Plethobasus cyphyus), snuffbox mussel (Epioblasma triquetra), and spectaclecase mussel (Cumberlandia monodonta) | Wisconsin | Presence/absence surveys and population monitoring | Capture, handle, identify, and release | Amendment.
TE 12392A-3 | The Institute for Marine Mammal Studies, Gulfport, MS | Loggerhead sea turtle (Caretta caretta), green sea turtle (Chelonia mydas), leatherback sea turtle (Dermochelys coriacea), hawksbill sea turtle (Eretmochelys imbricata), Kemp's ridley sea turtle (Lepidochelys kempii), and olive ridley (Lepidochelys olivacea) | Mississippi | Tagging of sea turtles prior to release following rehabilitation and nest monitoring | Insert PIT tag, attach flipper tag, attach satellite tag, use temperature loggers at nests, and excavate nests | Renewal and Amendment.
TE 49280D-0 | The Nature Conservancy, Vancleave, MS | Alabama red-bellied turtle (Pseudemys alabamensis) | Mississippi | Population monitoring and research on habitat use | Capture, mark, radio-tag, release, and recapture | New.

Authority

We publish this notice under section 10(c) of the Endangered Species Act of 1973, as amended (16 U.S.C. 1531 et seq.).

Franklin Arnold,
Deputy Assistant Regional Director, Ecological Services, Southeast Region.

[FR Doc. 2019-17611 Filed 8-15-19; 8:45 am]

BILLING CODE 4333-15-P